DEPARTMENT OF LABOR

Employment and Training Administration

[TA-W-52,241]

Research Seeds, Inc., a Subsidiary of Land O'Lakes, St. Joseph, MO; Notice of Termination of Investigation

Pursuant to section 221 of the Trade Act of 1974, as amended, an investigation was initiated on July 8, 2003 in response to a petition filed by a company official on behalf of workers at Research Seeds, Inc., a subsidiary of Land O'Lakes, St. Joseph, Missouri.

The petitioner has requested that the petition be withdrawn. Consequently, the investigation has been terminated.

Signed at Washington, DC this 15th day of July, 2003.
Linda G. Poole,
Certifying Officer, Division of Trade Adjustment Assistance.

[FR Doc. 03-18811 Filed 7-23-03; 8:45 am]

BILLING CODE 4510-30-P